DEPARTMENT OF COMMERCE

National Oceanic and Atmospheric Administration

[RTID 0648-XC666]

Takes of Marine Mammals Incidental to Specified Activities; Taking Marine Mammals Incidental to Naval Base Point Loma Fuel Pier Inboard Pile Removal Project

AGENCY: National Marine Fisheries Service (NMFS), National Oceanic and Atmospheric Administration (NOAA), Commerce.

ACTION: Notice; issuance of Renewal incidental harassment authorization (IHA).

SUMMARY: In accordance with the regulations implementing the Marine Mammal Protection Act (MMPA), as amended, notification is hereby given that NMFS has issued a renewal incidental harassment authorization (IHA) to the United States Navy (Navy) to incidentally harass marine mammals incidental to Fuel Pier Inboard Pile Removal Project at Naval Base Point Loma in San Diego Bay, CA.

DATES: This renewal IHA is valid from January 15, 2023 through January 14, 2024.

FOR FURTHER INFORMATION CONTACT: Kate Fleming, Office of Protected Resources, NMFS, (301) 427-8401. Electronic copies of the original application, Renewal request, and supporting documents (including NMFS Federal Register notices of the original proposed and final authorizations, and the previous IHA), as well as a list of the references cited in this document, may be obtained online at: https://www.fisheries.noaa.gov/permit/incidental-take-authorizations-under-marine-mammal-protection-act. In case of problems accessing these documents, please call the contact listed above.

SUPPLEMENTARY INFORMATION:

Background

The Marine Mammal Protection Act (MMPA) prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are proposed or, if the taking is limited to harassment, a notice of a proposed incidental take authorization is provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). Monitoring and reporting of such takings are also required. The meaning of key terms such as “take,” “harassment,” and “negligible impact” can be found in section 3 of the MMPA (16 U.S.C. 1362) and the agency's regulations at 50 CFR 216.103.

NMFS' regulations implementing the MMPA at 50 CFR 216.107(e) indicate that IHAs may be renewed for additional periods of time not to exceed 1 year for each reauthorization. In the notice of proposed IHA for the initial authorization, NMFS described the circumstances under which we would consider issuing a renewal for this activity, and requested public comment on a potential renewal under those circumstances. Specifically, on a case-by-case basis, NMFS may issue a one-time 1 year renewal IHA following notice to the public providing an additional 15 days for public comments when (1) up to another year of identical or nearly identical, or nearly identical, activities as described in the Detailed Description of Specified Activities section of the initial IHA issuance notice is planned or (2) the activities as described in the Detailed Description of Specified Activities section of the initial IHA issuance notice would not be completed by the time the initial IHA expires and a renewal would allow for completion of the activities beyond that described in the DATES section of the initial IHA issuance, provided all of the following conditions are met:

(1) A request for renewal is received no later than 60 days prior to the needed renewal IHA effective date (recognizing that the renewal IHA expiration date cannot extend beyond 1 year from expiration of the initial IHA);

(2) The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take);

• A preliminary monitoring report showing the results of the required monitoring to date and an explanation showing that the monitoring results do not indicate impacts of a scale or nature not previously analyzed or authorized; and

(3) Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: www.fisheries.noaa.gov/national/marine-mammal-protection/incidental-harassment-authorization-renewals.

History of Request

On August 26, 2021, NMFS issued an IHA to the Navy to take marine mammals incidental to the Fuel Pier Inboard Pile Removal Project at Naval Base Point Loma in San Diego Bay (86 FR 48986; September 01, 2021), effective from January 15, 2022 through January 14, 2023. On November 16, 2022, NMFS received an application for the renewal of that initial IHA. As described in the application for renewal, the activities for which incidental take is requested consist of activities that are covered by the initial authorization but will not be completed prior to its expiration. At the time of submittal of the renewal request, no activities had been conducted (though the applicant indicated its intention to conduct some activities prior to the expiration of the initial IHA). Therefore, a renewal is appropriate, and no monitoring data are available for review. The notice of the proposed renewal incidental harassment authorization was published on December 22, 2022 (87 FR 78655).

Description of the Specified Activities and Anticipated Impacts

The initial IHA authorized take incidental to the removal of 409 piles from the Fuel Pier at Naval base Point Loma by a variety of techniques (i.e., one to two pile clippers, an underwater chainsaw, a diamond wire saw, or a vibratory hammer, possibly with the assistance of a diver, to allow for continued Naval Fleet readiness activities). At the time of the request, the Navy has not done any work under the initial IHA. The activities that will occur under the renewal IHA consist of activities that are covered by the current authorization but will not be completed prior to its expiration (if any work is undertaken prior to expiration of the initial IHA). As the Navy has not done any work under the initial IHA at the time of their request, we assume here that the activities to be conducted under the renewal IHA are identical to those evaluated for the initial IHA.

Level B harassment (disruption of behavioral patterns and TTS for individual marine mammals resulting from exposure to the sounds produced from the underwater acoustic sources) is authorized under the initial IHA and authorized through this renewal for six species of marine mammal that could be present in the project area: California sea lion (Zalophus californianus), the northern elephant seal (Mirounga angustirostris), the harbor seal (Phoca vitulina), the bottlenose dolphin (Tursiops truncatus), the Pacific white-sided dolphin (Lagenorhynchus obliquidens), and the common dolphin (Delphinus delphis). Based on the nature of the activity and the anticipated effectiveness of the mitigation measures Level A harassment is neither anticipated nor authorized.

The following documents are referenced in this notice and include important supporting information:

• Initial 2022 proposed renewal IHA (87 FR 78655, December 22, 2022);

• Initial 2021 final IHA (86 FR 48986; September 01, 2021);

• Initial 2021 proposed IHA (86 FR 38274; July 20, 2021); and

• Initial IHA application, references cited, marine mammal monitoring plan, and San Diego Bay Acoustic Compendium (available at www.fisheries.noaa.gov/action/incidental-take-authorization-us-navy-fuel-pier-removal-naval-base-san-diego-california).

Detailed Description of the Activity

A detailed description of the pile removal activities for which take is authorized here may be found in the notices of the proposed and final IHAs for the initial authorization. The location and nature of the activities, including the methods and types of equipment planned for use, are identical to those described in the previous notices. The Navy intends to complete work by March 31, 2023, under the terms of a previously developed Memorandum of Understanding (MOU) between the Navy and the U.S. Fish and Wildlife Service (USFWS). According to this MOU, the Navy would only be performing in-water activities during a 196-day period from September 16 to March 31 to not interfere with the California least tern (Sterna antillarum browni) nesting season. However, the renewal will be effective for a period extending to one year from the date of expiration of the initial IHA.

Description of Marine Mammals

A description of the marine mammals in the area of the activities for which authorization of take is provided, including information on abundance, status, distribution, and hearing, may be found in the notices of the proposed and final IHAs for the initial authorization. NMFS has reviewed the most recent Stock Assessment Reports, information on relevant Unusual Mortality Events, and other scientific literature, and determined that neither this nor any other new information affects which species or stocks have the potential to be affected or the pertinent information in the Description of Marine Mammals in the Area of Specified Activities contained in the supporting documents for the initial IHA. This includes cases where stock abundances have changed. In all cases, stock abundance estimates are either the same (i.e., bottlenose dolphin, California sea lion, harbor seal), or have increased (common dolphin, Pacific white-sided dolphin, and northern elephant seal, with the exception of the long-beaked common dolphin, which has decreased. In all cases, our negligible impact determination has not changed.

Potential Effects on Marine Mammals and Their Habitat

A description of the potential effects of the specified activity on marine mammals and their habitat for the activities for which take is authorized here may be found in the Federal Register notices of the Proposed IHA for the initial authorization. NMFS has reviewed the most recent draft Stock Assessment Reports, information on relevant Unusual Mortality Events, other scientific literature, and the public comments, and determined that neither this nor any other new information affects our initial analysis of impacts on marine mammals and their habitat.

Estimated Take

A detailed description of the methods and inputs used to estimate take for the specified activity are found in the notices of the proposed and final IHAs for the initial authorization. Specifically, the source levels, days of operation, and marine mammal density/occurrence data applicable to this authorization remain unchanged from the previously issued IHA. Similarly, the stocks taken, methods of take, and types of take remain unchanged from the previously issued IHA.

Table 1—Level B Harassment Take Estimates for the NBPL Old Fuel Pier Pile Removal Project
Common name | Level B take requested
California sea lion | 1,260
Harbor seal | 84
Northern elephant seal | 7
Common dolphin | 756
Pacific white-sided dolphin | 84
Bottlenose dolphin | 84

Description of Mitigation, Monitoring and Reporting Measures

The mitigation, monitoring, and reporting measures included as requirements in this authorization are identical to those included in the Federal Register notice announcing the issuance of the initial IHA, and the discussion of the least practicable adverse impact included in that document and the notice of the proposed IHA remains accurate. The same measures are proposed for this renewal and are summarized here:

• The use of trained and qualified Protected Species Observers (PSOs);

• The implementation of a 20 m shutdown zone that is larger than the predicted Level A harassment isopleths;

• Delay or halting of activities in the event that visibility decreases where the shutdown zone cannot be appropriately monitored;

• Pile removal during daylight hours only;

• A minimum of one to four PSO's are allowed, depending on the visibility of the 400 meter Level B harassment zone, the visibility of the entire shutdown zone, and the location of pile removal activities for concurrent pile clippers;

• PSO's will need to record all observations of marine mammals, regardless of the distance from the pile being removed;

• Draft and final monitoring reports will be submitted to NMFS;

• The Navy will submit all PSO datasheets and/or raw sighting data with the draft report; and

• Reporting of injured or dead marine mammals is required.

Table 2—Shutdown and Harassment Zones (Meters) for Each Method
Pile information | Removal method | Harassment zone | Shutdown zone
13-inch polycarbonate pile | One pile clipper | 423 | 20
14-inch, 16-inch concreate piles | One pile clipper | 250
14-inch, 16-inch concreate piles | Two pile clippers | 250
14-inch, 16-inch concreate piles | Underwater chainsaw | 229
14-inch, 16-inch concreate piles | Diamond wire saw | 575
14-inch, 16-inch concreate piles | Vibratory hammer | 311

Comments and Responses

A notice of NMFS' proposal to issue a renewal IHA to the Navy was published in the Federal Register on December 22, 2022 (87 FR 78655). That notice either described, or referenced descriptions of, the Navy's activity, the marine mammal species that may be affected by the activity, the anticipated effects on marine mammals and their habitat, estimated amount and manner of take, and proposed mitigation, monitoring and reporting measures. NMFS received no public comments.

Determinations

The renewal request consists of activities identical to those that are covered by the initial authorization. The methods of determining estimated take, potential effects, and required mitigation, monitoring and reporting have not changed.

NMFS has defined negligible impact as an impact resulting from the specified activity that cannot be reasonably expected to, and is not reasonably likely to, adversely affect the species or stock through effects on annual rates of recruitment or survival (50 CFR 216.103). We found that the activities authorized under the initial IHA would have a negligible impact and that the taking would be small relative to the population size.

NMFS has concluded that there is no new information suggesting that our analysis or findings should change from those reached for the initial IHA. This includes consideration of the estimated abundance of common dolphin, Pacific white-sided dolphin, and northern elephant seal stocks increasing slightly and the population estimate for long-beaked common dolphin decreasing slightly. As such, our negligible impact determination has not changed. Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) The Navy's activities will not have an unmitigable adverse impact on taking for subsistence purposes as no relevant subsistence uses of marine mammals are implicated by this action, and; (5) appropriate monitoring and reporting requirements are included.

National Environmental Policy Act

To comply with the National Environmental Policy Act of 1969 (NEPA; 42 U.S.C. 4321 et seq.) and NOAA Administrative Order (NAO) 216-6A, NMFS must review our proposed action (i.e., the issuance of an IHA renewal) with respect to potential impacts on the human environment.

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has determined that the application of this categorical exclusion remains appropriate for this renewal IHA.

Endangered Species Act

Section 7(a)(2) of the Endangered Species Act of 1973 (ESA: 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

No incidental take of ESA-listed species is authorized or expected to result from this activity. Therefore, NMFS has determined that formal consultation under section 7 of the ESA is not required for this action.

Renewal

NMFS has issued a renewal IHA to the Navy for the take of marine mammals incidental to conducting the Fuel Pier Inboard Pile Removal Project at Naval Base Point Loma in San Diego Bay, California from January 15, 2023 to January 14, 2024.

Dated: January 11, 2023.
Kimberly Damon-Randall,
Director, Office of Protected Resources, National Marine Fisheries Service.

[FR Doc. 2023-00800 Filed 1-17-23; 8:45 am]

BILLING CODE 3510-22-P